NUCLEAR REGULATORY COMMISSION

[NRC-2010-0031]

Draft Regulatory Guide: Issuance, Availability

AGENCY: Nuclear Regulatory Commission.

ACTION: Notice of Issuance and Availability of Draft Regulatory Guide, DG-4017.

FOR FURTHER INFORMATION CONTACT: Gregory Chapman, U.S. Nuclear Regulatory Commission, Washington, DC 20555-0001, telephone: (301) 492-3106 or e-mail to Gregory.Chapman@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Monitoring and Reporting Radioactive Materials in Liquid and Gaseous Effluents from Nuclear Fuel Cycle Facilities,” is temporarily identified by its task number, DG-4017, which should be mentioned in all related correspondence. DG-4017 is a proposed Revision 2 of Regulatory Guide 4.16, dated December 1985. This guide describes a method that the NRC staff considers acceptable for the development and implementation of effluent monitoring programs to be described in license applications and for monitoring and reporting effluent data by licensees. The guidance is applicable to nuclear fuel cycle facilities with the exception of uranium mining and milling facilities and nuclear power reactors. The NRC has developed other regulatory guides applicable to those facilities.

Title 10 of the Code of Federal Regulations (10 CFR), § 70.59, “Effluent Monitoring Reporting Requirements,” requires licensees authorized to possess and use special nuclear material for processing and fuel fabrication, scrap recovery, conversion of uranium hexafluoride, or in a uranium enrichment facility to submit semi-annual reports to the NRC specifying the quantity of each of the principal radionuclides released to unrestricted areas and such other information as the NRC may require to estimate maximum potential annual radiation doses to the public resulting from effluent releases. As required by 10 CFR 40.65, “Effluent Monitoring Reporting Requirements,” each licensee authorized to possess and use source material in the production of uranium hexafluoride must submit semiannual reports similar to those required by 10 CFR 70.59.

II. Further Information

The NRC staff is soliciting comments on DG-4017. Comments may be accompanied by relevant information or supporting data and should mention DG-4017 in the subject line. Comments submitted in writing or in electronic form will be made available to the public in their entirety through the NRC's Agencywide Documents Access and Management System (ADAMS).

Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any of the following methods:

1. Mail comments to: Rulemaking and Directives Branch, Mail Stop: TWB-05-B01M, Office of Administration, U.S. Nuclear Regulatory Commission, Washington, DC 20555-0001.

2. Federal e-Rulemaking Portal: Go to http://www.regulations.gov and search for documents filed under Docket ID [NRC-2010-0031]. Address questions about NRC dockets to Carol Gallagher, (301) 492-3668; e-mail Carol.Gallagher@nrc.gov.

3. Fax comments to: Rulemaking and Directives Branch, Office of Administration, U.S. Nuclear Regulatory Commission at (301) 492-3446.

Requests for technical information about DG-4017 may be directed to the NRC contact, Gregory Chapman at (301) 492-3106 or e-mail to Gregory.Chapman@nrc.gov.

Comments would be most helpful if received by April 5, 2010. Comments received after that date will be considered if it is practical to do so, but the NRC is able to ensure consideration only for comments received on or before this date. Although a time limit is given, comments and suggestions in connection with items for inclusion in guides currently being developed or improvements in all published guides are encouraged at any time.

Electronic copies of DG-4017 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML091810092.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 26th day of January, 2010.
For the Nuclear Regulatory Commission.
John N. Ridgely,
Acting Chief, Regulatory Guide Development Branch, Division of Engineering, Office of Nuclear Regulatory Research.

[FR Doc. 2010-2285 Filed 2-2-10; 8:45 am]

BILLING CODE 7590-01-P